DEPARTMENT OF TRANSPORTATION

Federal Aviation Administration

14 CFR Part 73

[Docket No. FAA-2010-1070; Airspace Docket No. 10-AEA-18]

RIN 2120-AA66

Amendment of Using Agency for Restricted Areas R-4002, R-4005, R-4006 and R-4007; MD

AGENCY: Federal Aviation Administration (FAA), DOT.

ACTION: Final rule.

SUMMARY: This action makes a minor change to the name of the using agency for restricted areas R-4002, Bloodsworth Island, MD; and R-4005, R-4006 and R-4007, Patuxent River, MD to “U.S. Navy, Commanding Officer, NAS Patuxent River, MD.” This is an administrative change only and there are no changes to the dimensions, time of designation or activities conducted within the affected restricted areas.

DATES: Effective date 0901 UTC, January 13, 2011.

FOR FURTHER INFORMATION CONTACT: Paul Gallant, Airspace, Regulations and ATC Procedures Group, Office of Airspace Services, Federal Aviation Administration, 800 Independence Avenue, SW., Washington, DC 20591; telephone: (202) 267-8783.

SUPPLEMENTARY INFORMATION:

Background

The U.S. Navy requested a minor change to the name of the using agency for restricted areas R-4002, R-4005, R-4006 and R-4007 in Maryland, in order to reflect the correct organization responsible for operation of the areas and to standardize the using agency listing in the area legal descriptions.

The Rule

This action amends Title 14 Code of Federal Regulations (14 CFR) part 73 by changing the using agency name from “Commanding Officer, Naval Amphibious School Little Creek, Norfolk, VA,” To “U.S. Navy, Commanding Officer, NAS Patuxent River, MD” for restricted area R-4002, Bloodsworth Island, MD; and restricted areas R-4005, R-4006 and R-4007, Naval Air Station Patuxent River, MD, from “Commanding Officer, NAS Patuxent River, MD,” to “U.S. Navy, Commanding Officer, NAS Patuxent River, MD.” This is an administrative change and does not affect the boundaries, designated altitudes, or activities conducted within the restricted area; therefore, notice and public procedures under 5 U.S.C. 553(b) are unnecessary.

The FAA has determined that this action only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with 311d., FAA Order 1050.1E, Environmental Impacts: Policies and Procedures. This airspace action is an administrative change to the descriptions of the affected restricted areas to update the using agency name. It does not alter the dimensions, altitudes, or times of designation of the airspace; therefore, it is not expected to cause any potentially significant environmental impacts, and no extraordinary circumstances exists that warrant preparation of an environmental assessment.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.40 [Amended]

2. § 73.40 is amended as follows:

* * * * *

1. R-4002 Bloodsworth Island, MD [Amended]

By removing the words “Using agency. Commanding Officer, Naval Amphibious School Little Creek, Norfolk, VA” and inserting the words “Using agency. U.S. Navy, Commanding Officer, NAS Patuxent River, MD.”

2. R-4005 Patuxent River, MD [Amended]

By removing the words “Using agency. Commanding Officer, NAS Patuxent River, MD” and inserting the words “Using agency. U.S. Navy, Commanding Officer, NAS Patuxent River, MD.”

3. R-4006 Patuxent River, MD [Amended]

By removing the words “Using agency. Commanding Officer, NAS Patuxent River, MD” and inserting the words “Using agency. U.S. Navy, Commanding Officer, NAS Patuxent River, MD.”

4. R-4007 Patuxent River, MD [Amended]

By removing the words “Using agency. Commanding Officer, NAS Patuxent River, MD” and inserting the words “Using agency. U.S. Navy, Commanding Officer, NAS Patuxent River, MD.”

Issued in Washington, DC, on November 4, 2010.
Edith V. Parish,
Manager, Airspace, Regulations and ATC Procedures Group.

[FR Doc. 2010-28387 Filed 11-9-10; 8:45 am]

BILLING CODE 4910-13-P